DEPARTMENT OF THE INTERIOR

Bureau of Land Management

[LLORP00000.L10200000.DF0000.LXSSH1040000.222.HAG 22-0004]

Notice of Public Meetings for the John Day Snake Resource Advisory Council (RAC) Planning Subcommittee and the John Day-Snake RAC, Oregon

AGENCY: Bureau of Land Management, Interior.

ACTION: Notice of public meetings.

SUMMARY: In accordance with the Federal Land Policy and Management Act of 1976 and the Federal Advisory Committee Act of 1972, the U.S. Department of the Interior, Bureau of Land Management's (BLM) John Day-Snake Resource Advisory Council (RAC) and its Planning Subcommittee will meet.

DATES: The John Day-Snake Planning Subcommittee will meet from 6 p.m. Pacific Time (PT) to 8:30 p.m. PT Wednesday, January 12, 2022, via Zoom conference.

The John Day-Snake RAC will also meet via Zoom conference Thursday and Friday, February 17 and 18, 2022. The February 17 meeting will begin at 1:30 p.m. PT and conclude at 5:30 p.m. PT. The February 18 meeting will begin at 8 a.m. PT and conclude at 1 p.m. PT.

All meetings are open to the public and public comment periods will be held each day of the RAC and Subcomimttee meetings.

ADDRESSES: Both the RAC and Subcommittee Zoom meeting details and agendas will be published on the RAC web page at least 2 weeks in advance at https://www.blm.gov/get-involved/resource-advisory-council/near-you/oregon-washington/john-day-rac. Written comments can be sent to BLM, Baker Field Office, 3100 H St., Baker City, OR 97814, or emailed to lbogardus@blm.gov.

FOR FURTHER INFORMATION CONTACT: Larisa Bogardus, Public Affairs Officer, telephone: (541) 219-6863; email: lbogardus@blm.gov. Persons who use a telecommunications device for the deaf (TDD) may call the Federal Relay Service (FRS) at (800) 877-8339 to contact Ms. Bogardus during normal business hours. The FRS is available 24 hours a day, 7 days a week, to leave a message or question. You will receive a reply during normal business hours.

SUPPLEMENTARY INFORMATION: The 15-member John Day-Snake RAC was chartered and appointed by the Secretary of the Interior. Its diverse perspectives are represented in commodity, conservation, and general interests. They provide advice to the BLM and, as needed, to the U.S. Forest Service resource managers regarding management plans and proposed resource actions on public land within the Vale and Prineville BLM Districts and the Wallowa-Whitman, Umatilla, Malheur, Ochoco, and Deschutes National Forests. All meetings are open to the public in their entirety. Information to be distributed to the RAC is requested prior to the start of each meeting. Agenda topics for the February RAC meeting include amenity recreation fee proposals; reports on the Central Cascades Wilderness Permit implementation and Thirtymile Recreation and Travel Management Plan; Bureau updates on energy and minerals, timber, rangeland and grazing, wildland fire and fuels, and wild horses and burros; and any other business that may reasonably come before the RAC.

The Planning Subcommittee was established to gather information, conduct research, and analyze relevant issues and facts on selected topics for future consideration by the RAC. The Subcommittee's primary goal is to provide information to the RAC members that allows them to better respond to time-sensitive issues, such as responding to an environmental document within the public comment period. No decisions are made at the subcommittee level. Agenda topics for the January Subcommittee meeting include research and discussion on Wallowa-Whitman National Forest recreation fee proposals for selected developed campgrounds and cabin rentals; Malheur National Forest recreation fee proposal for selected developed cabins and campgrounds; and a Lower Deschutes Business Plan and Fee Proposal update.

The Designated Federal Officer will attend the meetings, take minutes, and publish these minutes on the RAC web page at https://www.blm.gov/get-involved/resource-advisory-council/near-you/oregon-washington/john-day-rac.

For members of the public who want to provide comments to the RAC and/or Subcommittee, before including your address, phone number, email address, or other personal identifying information in your comments, please be aware that your entire comment—including your personal identifying information—may be made publicly available at any time. While you can ask us in your comment to withhold your personal identifying information from public review, we cannot guarantee we will be able to do so.

(Authority: 43 CFR 1784.4-2)

Dennis C. Teitzel,
Prineville District Manager.

[FR Doc. 2021-27881 Filed 12-22-21; 8:45 am]

BILLING CODE 4310-33-P